ENVIRONMENTAL PROTECTION AGENCY

[EPA-HQ-OPPT-2018-0174; FRL-9978-21]

Advance Notice of Public Meeting; Technical Issues—Formaldehyde Emission Standards for Composite Wood Products

AGENCY: Environmental Protection Agency (EPA).

ACTION: Notice.

SUMMARY: This notice announces EPA's plan for a public meeting regarding technical issues in the Formaldehyde Emission Standards for Composite Wood Products Final Rule published on December 12, 2016. The meeting will inform EPA's potential development of a proposed rule to address these technical issues and to further align the rule requirements with the California Air Resources Board (CARB) Airborne Toxic Control Measures (ATCM) Phase II program. The primary audience for this public meeting is Third Party Certifiers (TPCs) and panel producers who contract with TPCs to certify composite wood products under the December 12, 2016 final rule; however, this meeting is open to the public.

DATES: The meeting will be held on June 28, 2018 from 1:00 p.m. EDT to 4:00 p.m. EDT. EPA will accept questions from the public in advance of the meeting, and will address these questions during the meeting as time allows, if such questions are received by June 22, 2018.

Members of the public who register to speak at the meeting may make comments and may ask additional questions. Online requests to participate in the meeting must be received on or before June 8, 2018. On-site registration will be permitted, but seating and speaking priority will be given to those who pre-register by the deadline. See Unit III.B. for information on public participation in the meeting.

To request accommodation of a disability, please contact the meeting logistics or registration person listed under FOR FURTHER INFORMATION CONTACT, preferably at least 10 days prior to the meeting, to give EPA as much time as possible to process your request.

ADDRESSES: The meeting will be held at the U.S. EPA William Jefferson Clinton East Building, Room 4225, 1201 Constitution Avenue NW, Washington, DC 20004.

To participate in the Technical Issues Meeting; Formaldehyde Emission Standards for Composite Wood Products on June 28, 2018 (identified by docket ID number EPA-HQ-OPPT-2018-0174) you may register online (preferred) or in person at the meeting. To register online, go to https://www.eventbrite.com/e/us-epa-technical-issues-formaldehyde-emission-standards-for-composite-wood-products-public-tickets-44550791617. Written comments, identified by the docket ID number EPA-HQ-OPPT-2018-0174 can be submitted by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

The comment period for this public meeting will open on May 24, 2018 and close July 28, 2018. The docket will remain open to receive comments and materials until this date. When submitting comments to the docket, please be as specific as possible, and please include any supporting data or other information.

Additional instructions on commenting or visiting the docket, along with more information about dockets in general is available at http://www.epa.gov/dockets.

FOR FURTHER INFORMATION CONTACT:

For technical information about the Technical Issues Meeting; Formaldehyde Emission Standards for Composite Wood Products meeting contact: Todd Coleman, National Programs Chemical Division (7404T), Office of Pollution Prevention and Toxics, Environmental Protection Agency, 1200 Pennsylvania Ave. NW, Washington, DC 20460-0001; telephone number: (202) 564-1208; email address: coleman.todd@epa.gov.

For meeting logistics or registration contact: Eva Cappuccilli, National Program Chemicals Division (7404T), Office of Pollution Prevention and Toxics, Environmental Protection Agency, 1200 Pennsylvania Ave. NW, Washington, DC 20460-0001; telephone number: (202) 564-4688; email address: cappuccilli.eva@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This public meeting is primarily directed to the TPCs and panel producers who contract with TPCs to certify composite wood products under the Formaldehyde Emission Standards for Composite Wood Products final rule. Many of the technical issues that the Agency is considering are directly related to the third-party certification testing requirements for regulated composite wood products. In general, fabricators, distributors and retailers who are affected by the Formaldehyde Emission Standards for Composite Wood Products final rule may also be interested in this meeting. Since stakeholders other than TPCs may also be interested, the Agency has not attempted to describe all the specific entities that may be interested in the issues to be discussed at the public meeting. Additionally, while the Agency seeks to focus the public meeting on technical issues already raised to the Agency, we are aware there may be other technical issues of interest to stakeholders and have provided an opportunity under III. Meeting for comments to be provided to the Agency in advance of the public meeting, during oral comment at the meeting if time permits, or during the public comment period after the meeting.

B. How can I get copies of this document and other related information?

The docket for this notice, identified by docket identification (ID) number EPA-HQ-OPPT-2018-0174, is available at http://www.regulations.gov or at the Office of Pollution Prevention and Toxics Docket (OPPT Docket), Environmental Protection Agency Docket Center (EPA/DC), West William Jefferson Clinton Bldg., Rm. 3334, 1301 Constitution Ave. NW, Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

II. Background

The Formaldehyde Emission Standards for Composite Wood Products final rule published on December 12, 2016 (81 FR 89674) and became effective March 21, 2017 (82 FR 14324). Since publication of the final rule, EPA received letters and other feedback from industry stakeholders, including the Composite Panel Association, Hardwood Plywood Veneer Association, Kitchen Cabinet Manufacturers Association, and various TPCs requesting that EPA provide clarification and possibly amend certain provisions of the December 12, 2016 final rule to further align this rule with the CARB ATCM Phase II program. The Agency has already taken other actions to amend the rule to address other issues, including allowing early labeling of compliant composite wood products (see 82 FR 31922), extending the compliance dates in the December 12, 2016 final rule (see 82 FR 44533), and updating several voluntary consensus standard versions as well as the equivalence provisions between the ASTM E-1333 and ASTM D-6007 chamber (see 82 FR 5340). Based on the discussion at the public meeting and other input sent to the Agency during the public comment period, the Agency may consider proposing additional technical amendments to clarify the rule requirements or further align EPA's regulation with the CARB ATCM Phase II program.

The general nature of the issues raised by stakeholders, which are reflected on the meeting agenda included in the docket for this meeting, surround the testing and certification of composite wood products under the final rule, including correlation of test methods, equivalence of test methods, treatment of test data, and sampling requirements under EPA's final rule. The Agency is also aware there is interest from stakeholders in obtaining further guidance on how one can petition the Agency for additional exemptions for laminated products from the definition of “hardwood plywood” as allowed under § 770.4(b) of the December 12, 2016 final rule. The Agency intends to address this issue separately, potentially in a future public workshop.

The public meeting on the technical issues is meant to enable the Agency to receive broad input from all TPCs and other interested stakeholders, request further public comment, data, or related information on these and any related rule provisions that can help improve consistency with CARB's regulation, improve clarity in the rule where needed, and help improve overall implementation of the rule.

III. Meeting

A. Remote Access

The meeting will be accessible remotely for registered participants. Registered participants will receive information on how to connect to the meeting prior to its start.

B. Public Participation at the Meeting

Attendees and participants may register to attend the Technical Issues; Formaldehyde Emission Standards for Composite Wood Products meeting and provide oral comments and ask questions on the day of the meeting, using one of the registration methods described under ADDRESSES. Participants who want to provide oral comments or to ask questions during the meeting must be registered as a speaker. The Agency is most interested in receiving comments or questions on the specific technical issues outlined on the meeting agenda, which would include timing and ways to implement any changes should the agency decide to propose additional technical amendments; however, comments or questions can also be provided on other technical rule provisions that can help improve consistency with CARB's regulation, improve clarity in the rule, and help improve overall implementation of the rule. The meeting agenda and stakeholder letters referenced in Unit II are available in the docket and on EPA's website in advance of the meeting. A registered speaker is encouraged to focus on issues directly relevant to the meeting's subject matter, initially discussed under II. Background of this notice. Each speaker will be allowed a reasonable amount of time to provide relevant oral comments and ask questions. The Agency requests that speakers limit their comments and questions to five minutes in order to allow other participants a chance to speak as well. If time allows, the Agency will offer more time at the conclusion of the meeting for speakers to make additional comments or present relevant material that they may not have been able to provide in their initial five-minute segment. To accommodate as many registered speakers as possible, speakers may present oral comments and questions only, without visual aids or written material. Persons must register to speak using the registration methods described under ADDRESSES. Persons registered to speak (as well as others) may submit written materials to the dockets as described under ADDRESSES. An agenda for the meeting and supporting materials are available in the docket for this notice and on EPA's website at www.epa.gov/formaldehyde. Additionally, EPA will accept questions from the public in advance of the meeting, and address these questions during the meeting as time allows, if such questions are received by June 22, 2018. Questions should be submitted to the technical contact for this meeting listed in the FOR FURTHER INFORMATION CONTACT section of this notice.

IV. How can I request to participate in this meeting?

A. Registration

To attend the meeting in person or to receive remote access, you must register online no later than June 22, 2018, using one of the methods described under ADDRESSES. While on-site registration will be available, seating will be on a first-come, first-served basis, with priority given to early registrants, until room capacity is reached. For registrants not able to attend in person, the meeting will also provide remote access capabilities; registered participants will be provided information on how to connect to the meeting prior to its start, using the email address that participants use to register for this meeting.

B. Required Registration Information

Attendees and participants may register to attend as observers or to speak if planning to offer oral comments. To register for the meeting online, you must provide your full name, organization or affiliation, and contact information.

Authority: Section 601 of TSCA, 15 U.S.C. 2697.

Dated: May 18, 2018.
Louise P. Wise,
Deputy Assistant Administrator, Office of Chemical Safety and Pollution Prevention.

[FR Doc. 2018-11195 Filed 5-23-18; 8:45 am]

BILLING CODE 6560-50-P